NUCLEAR REGULATORY COMMISSION

10 CFR Parts 30 and 61

[Docket No. PRM-30-64]

Charles T. Gallagher, Gammatron, Inc.; Petition for Rulemaking

AGENCY: Nuclear Regulatory Commission.

ACTION: Petition for rulemaking; Notice of receipt.

SUMMARY: The Nuclear Regulatory Commission (NRC) has received and requests public comment on a petition for rulemaking filed by Mr. Charles T. Gallagher of Gammatron, Inc. The petition, docketed on June 6, 2000, has been assigned Docket No. PRM-30-64. The petitioner requests that NRC modify its financial assurance and recordkeeping requirements for decommissioning to require financial assurance for all licensees, expand the method for payment of decommissioning for small business operators, and exempt licensees whose radioactive materials are categorized as greater than Class C waste.

DATES: Submit comments by October 25, 2000. Comments received after this date will be considered if it is practical to do so, but the Commission is able to assure consideration only for comments received on or before this date.

ADDRESSES: Mail comments to: Secretary, U.S. Nuclear Regulatory Commission, Washington, DC 20555-0001, Attention: Rulemakings and Adjudications Staff.

Deliver comments to: 11555 Rockville Pike, Rockville, Maryland, between 7:30 a.m. and 4:15 p.m. on Federal workdays.

For a copy of the petition, write to David L. Meyer, Chief, Rules and Directives Branch, Division of Administrative Services, Office of Administration, U.S. Nuclear Regulatory Commission, Washington, DC 20555-0001.

You may also provide comments via the NRC's interactive rulemaking website at http://ruleforum.llnl.gov. This site allows you to upload comments as files in any format, if your web browser supports the function. For information about the interactive rulemaking website, contact Carol Gallagher, (301) 415-5905 e-mail:cag@nrc.gov.

The petition and copies of comments received may be inspected, and copied for a fee, at the NRC Public Document Room, 2120 L Street, NW. (Lower Level), Washington, DC.

FOR FURTHER INFORMATION CONTACT: David L. Meyer, Chief, Rules and Directives Branch, Division of Administrative Services, Office of Administration, U.S. Nuclear Regulatory Commission, Washington, DC 20555-0001, Telephone: 301-415-7162 or Toll Free: 1-800-368-5642 or e-mail:dlm1@nrc.gov.

SUPPLEMENTARY INFORMATION:

Basis for Petition

The petitioner, who is the holder of a radioactive license in the Agreement State of Texas, indicates that he and other Agreement State licensees were not given the opportunity by the Agreement State regulatory agencies to comment on the original proposed rules for financial assurance requirements. The petitioner asserts that NRC licensees hold only 27% of the radioactive licenses in the United States, while Agreement State licensees hold almost 75%. According to the petitioner, the Agreement State regulatory agencies failed to recognize the impact of the ruling on its licensees.

Background

The NRC requires each holder of a specific license to provide financial assurance for decommissioning in accordance with the criteria set forth in § 30.35(c). Section 30.35(c) provides the minimum quantity levels of licensed material possessed by licensees above which financial assurance requirements are applicable. Also, § 30.35 (f)(1) and (2) requires that financial assurance for decommissioning be provided by one or more of the following methods: (1) prepayment; or (2) a surety method, insurance, or other guarantee method.

Petitioners' Concern

1. The petitioner believes that financial assurance requirements should be required for all licensees, irrespective of the quantity of licensed material a licensee may possess.

The petitioner agrees that funds should be available to decommission a facility; however, he believes that requiring security from specific types of licensees based on the quantity of licensed material is arbitrary. The petitioner believes that the premise is false that a licensee who is licensed for greater quantities is a greater financial risk than the licensee licensed for smaller quantities. According to the petitioner, the larger the quantity of radioactive material a licensee processes, the larger the licensee's safety program, the more careful the licensee's handling procedures, the more elaborate the licensee's equipment, and the more extensive the licensee's experience and education. As an example, the petitioner states that a 100 millicurie Cesium 137 source, that would not require any financial assurance, is quite capable of producing a million dollar decontamination problem, if handled improperly or by unauthorized persons.

2. The petitioner believes that the methods included in the rule by which a small business licensee can provide surety should be expanded over a longer timeframe.

The petitioner states that the rule requires that a surety payment be paid at one time, and that this requirement places an undue burden and insurmountable hardship on small businesses licensed by the NRC or by Agreement States. The petitioner states that the small business operator cannot obtain bonds and parent company guarantees like the large businesses and public institutions. The petitioner believes that if the financial assurance rules are to require licensees to clean up after themselves, then the rules must allow a method of financial assurance that does not force the small business licensee out of business. The petitioner notes that the Environmental Protection Agency and their designated state agencies allow payment to be made over the life of their facilities.

The petitioner acknowledges that the subject of the following recommendation is separate from the issues listed above.

3. The petitioner believes that licensees that use radioactive materials that fall into the category of “orphan waste” (greater than Class C) should be exempted from the regulations because, according to the petitioner, the disposal of greater than Class C waste is the responsibility of the Department of Energy (DOE).

The petitioner believes that a licensee that has “orphan waste” should not be required to calculate and fund its disposal when there is no disposal site to accept the waste. As an example, the petitioner notes that DOE has an Americium 241 neutron source recovery program that includes compiling a list of unwanted or abandoned AmBe sources throughout the U.S. and is actively consolidating these sources for the recovery of Am-241. The petitioner believes that by initiating this program, the DOE has effectively recognized its responsibility for their disposal.

Dated at Rockville, Maryland, this 7th day of August, 2000.
For the Nuclear Regulatory Commission.
Annette Vietti-Cook,
Secretary of the Commission.

[FR Doc. 00-20418 Filed 8-10-00; 8:45 am]

BILLING CODE 7590-01-P